DEPARTMENT OF THE INTERIOR

Bureau of Land Management

[LLCAD06000, L14300000.0000; CACA 50611]

Public Land Order No. 7732; Partial Revocation of Power Site Reserve No. 530; California

AGENCY: Bureau of Land Management, Interior.

ACTION: Public land order.

SUMMARY: This order partially revokes a withdrawal created by an Executive Order insofar as it affects approximately 11 acres of public land withdrawn for Power Site Reserve No. 530. This order also opens the land to exchange.

DATES: Effective Date: June 4, 2009.

FOR FURTHER INFORMATION CONTACT: Duane Marti, Realty Specialist, at (916) 978-4675 or via e-mail at Duane_Marti@ca.blm.gov.

SUPPLEMENTARY INFORMATION: The Executive Order withdrew those portions of the public lands lying within 50 feet of the centerline of a proposed right-of-way shown on a map included in the 1914 application filed by the Coachella Valley Ice and Electric Company. The transmission line was taken out of service and removed in 1939. The Bureau of Land Management has determined that the withdrawal is no longer needed for that purpose and the partial revocation is needed to facilitate a pending land exchange.

Order

By virtue of the authority vested in the Secretary of the Interior by Section 204 of the Federal Land Policy and Management Act of 1976, 43 U.S.C. 1714 (2000), it is ordered as follows:

1. The Executive Order dated May 25, 1916, which established Power Site Reserve No. 530, is hereby revoked insofar as it affects the following described land:

San Bernardino Meridian

All portions of the following described lands lying within 50 feet of the center line of the right of way granted to Coachella Valley Ice and Electric Company:

T. 3 S., R. 5 E.,

Sec. 32, S½SE¼NW¼, NE¼SW¼, and SE¼.

The area described contains approximately 11 acres in Riverside County.

2. At 10 a.m., on July 6, 2009, the above-described land is hereby made available for exchange pursuant to Section 206 of the Federal Land Policy and Management Act of 1976, 43 U.S.C. 1716 (2000).

Dated: May 14, 2009
Ken Salazar,
Secretary of the Interior.

[FR Doc. E9-13009 Filed 6-3-09; 8:45 am]

BILLING CODE 4310-40-P